NUCLEAR REGULATORY COMMISSION

[Docket Nos. 50-498-LR and 50-499-LR; ASLBP No. 11-909-02-LR-BD01]

South Texas Project Nuclear Operating Company; Establishment of Atomic Safety and Licensing Board

Pursuant to delegation by the Commission dated December 29, 1972, published in the Federal Register, 37 FR 28,710 (1972), and the Commission's regulations, see, e.g., 10 CFR 2.104, 2.105, 2.300, 2.309, 2.313, 2.318, and 2.321, notice is hereby given that an Atomic Safety and Licensing Board (Board) is being established to preside over the following proceeding

South Texas Project Nuclear Operating Company

(South Texas Project, Units 1 and 2)

This proceeding involves an application by South Texas Project Nuclear Operating Company to renew for twenty years its operating licenses for South Texas Project, Units 1 and 2, which are located near Wadsworth, Texas. The current operating licenses expire on August 20, 2027 (Unit 1) and December 15, 2028 (Unit 2). In response to January 7, 2011 Notice of Acceptance for Docketing of the Application and Notice of Opportunity for Hearing, published in the Federal Register on January 13, 2011 (76 FR 2426), a petition to intervene was submitted by Sustainable Energy and Economic Development Coalition (SEED) and Susan Dancer.

The Board is comprised of the following administrative judges:

Ronald M. Spritzer, Chair, Atomic Safety and Licensing Board Panel, U.S. Nuclear Regulatory Commission, Washington, DC 20555-0001.

Nicholas G. Trikouros, Atomic Safety and Licensing Board Panel, U.S. Nuclear Regulatory Commission, Washington, DC 20555-0001.

Larry R. Foulke, Atomic Safety and Licensing Board Panel, U.S. Nuclear Regulatory Commission, Washington, DC 20555-0001.

All correspondence, documents, and other materials shall be filed in accordance with the NRC E-Filing rule, which the NRC promulgated in August 2007 (72 FR 49,139).

Issued at Rockville, Maryland, this 23rd day of March 2011.
Anthony J. Baratta,
Associate Chief Administrative Judge—Technical, Atomic Safety and Licensing Board Panel.

[FR Doc. 2011-7320 Filed 3-28-11; 8:45 am]

BILLING CODE 7590-01-P